DEPARTMENT OF VETERANS AFFAIRS

[OMB Control No. 2900-NEW]

Agency Information Collection (VA Financial Services Center (VA-FSC) Vendor File Request Form); Activity Under OMB Review

AGENCY: Financial Services Center, Department of Veterans Affairs.

ACTION: Notice.

SUMMARY: In compliance with the Paperwork Reduction Act (PRA) of 1995 (44 U.S.C. 3501-3521), this notice announces that the Department of Veterans Affairs—Financial Services Center (VA-FSC) will submit the collection of information abstracted below to the Office of Management and Budget (OMB) for review and comment. The PRA submission describes the nature of the information collection and its expected cost and burden and includes the actual data collection instrument.

DATES: Comments must be submitted on or before March 21, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (VA-FSC Vendor File Request Form)” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (VA-FSC Vendor File Request Form)” in any correspondence.

SUPPLEMENTARY INFORMATION:

Title: VA-FSC Vendor File Request Form.

OMB Control Number: 2900-NEW.

Type of Review: New collection.

Abstract: The mission of the Nationwide Vendor File Division of the Department of Veterans Affairs—Financial Services Center (VA-FSC) is to add, modify, or delete vendor records in the Financial Management Services (FMS) Vendor File. The VA-FSCs FMS Vendor File controls aspects of when, where, and how vendors are paid. There are currently more than 2.4M active vendor records in FMS.

In 1987, Treasury implemented several initiatives to encourage agencies to convert their vendor and miscellaneous payment activity from checks to the Automated Clearing House (ACH) payments. By 1996, the Debt Collection Improvement Act (DCIA) mandated the use of electronic funds transfer (EFT) for federal payments. In order to comply with these federal requirements, the VA and other Federal Agencies have used OMB # 1510-0056/Standard Form 3881 (SF 3881) to collect the essential payment data from vendors (i.e. Name, Address, SSN/TaxID, Financial Institution, Routing and Transit Number and Bank Account Number) to establish payment files. However, because SF 3881 lacks the necessary information fields to communicate the type of Vendor record required (i.e. commercial, individual, veteran, employee, etc.) the VA-FSC required all SF 3881 submissions to have an accompanying Vendorizing Cover Sheet included to ensure proper document processing.

The new Vendorizing Form (VA10091) streamlines the data required to establish a vendor record (from the SF 3881 and Vendorizing Cover Sheet) into a single form.

An agency may not conduct or sponsor, and a person is not required to respond to a collection of information unless it displays a currently valid OMB control number. The Federal Register Notice with a 60-day comment period soliciting comments on this collection of information was published at 80 FR 229 on 30 November 2015.

Affected Public: Businesses or other for-profit, not-for-profit institutions; State, Local or Tribal Government; VA employees; Veterans; Caregivers.

Estimated Annual Burden: 37,500 burden hours.

Estimated Average Burden per Respondent: 15 minutes.

Frequency of Response: Once per applicant, unless there is a change of name, address, banking information.

Estimated Number of Respondents: 150,000.

By direction of the Secretary.
Kathleen M. Manwell,
Program Analyst, VA Privacy Service, Office of Privacy and Records Management, Department of Veterans Affairs.

[FR Doc. 2016-03401 Filed 2-18-16; 8:45 am]

BILLING CODE 8320-01-P